NATIONAL FOUNDATION FOR THE ARTS AND THE HUMANITIES

Notice of Proposed Information Collection Requests: Sustaining Digitized Special Collections and Archives Survey

AGENCY: Institute of Museum and Library Services.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed survey to gather information on the practices of creating and maintaining sustainable digitized special collections.

A copy of the proposed information collection request can be obtained by contacting the individual listed below in the ADDRESSES section of this notice.

DATES: Written comments must be submitted to the office listed in the addressee section below on or before July 25, 2011.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Chuck Thomas, Institute of Museum and Library Services, 1800 M Street, NW., 9th Floor, Washington, DC 20036. Telephone: 202-653-4663. E-mail: cthomas@imls.gov or by or by teletype (TTY/TDD) for persons with hearing difficulty at 202-653-4614.

SUPPLEMENTARY INFORMATION:

I. Background:

The Institute of Museum and Library Services is the primary source of federal support for the Nation's 123,000 libraries and 17,500 museums. The Institute's mission is to create strong libraries and museums that connect people to information and ideas. The Institute works at the national level and in coordination with state and local organizations to sustain heritage, culture, and knowledge; enhance learning and innovation; and support professional development. IMLS conducts policy research, analysis, and data collection to extend and improve the Nation's museum, library, and information services. The policy research, analysis, and data collection is used to: identify national needs for and trends in museum, library, and information services; measure and report on the impact and effectiveness of museum, library, and information services throughout the United States; identify best practices; and develop plans to improve museum, library, and information services of the United States and strengthen national, State, local, regional, and international communications and cooperative networks. (20 U.S.C. Chapter 72, 20 U.S.C. 9108).

II. Current Actions

Over the past decade, libraries, archives, museums, foundations and government agencies, and others have invested millions in the digitization of historical and rare content for research, education, cultural heritage. Grants have facilitated major digitization efforts, developed significant new collections, and paved the way for exciting new forms of research and teaching, possible only in an online environment. As budgets tighten and the real costs of ongoing support for digital projects become clear, however, libraries, archives, and museums are discovering that the work associated with digitization projects rarely concludes when the last scanned file is posted to a public site. The maintenance of digital projects requires an ongoing investment of both financial and human resources; not only must servers be supported and user queries answered, but rapid advances in technology are changing user expectations about how they want to discover, interact with, and share digital content. These changes are creating complicated new challenges for libraries, archives, and other institutions that wish to digitize and make available their local special and archival collections.

The project will consist of two parts: first, a survey asking representatives from a range of institutions to document existing practices and attitudes toward sustaining digitized special collections, and second, a series of case studies on innovative models for managing and sustaining digitized special collections (to be released in Spring 2012). This study will promote the spread of knowledge about library and museum experiments and initiatives to support digital projects, enabling both the leaders of current and future digital projects to develop more robust sustainability plans and also the funders and institutional administrators who support these projects to understand the factors and variables that help point towards success. This survey will attempt to gather data from a broad and representative range of cultural heritage organizations across the United States.

This survey is intended for libraries, archives, museums, and other cultural heritage organizations that have digitized some portion of their special collections or have arranged to have their special collections digitized by a third party. Please do not hesitate to contact the authors of the survey (see contact information below) if you are unsure whether the survey applies to your organization.

The survey is being distributed to leaders of libraries or other institutions that are: Recipients of IMLS funds for digitization projects from 1997 to the present, (through National Leadership Grants or via other routes such as LSTA funding) or Members of the Association of Research Libraries.

Agency: Institute of Museum and Library Services.

Title: Sustaining Digitized Special Collections and Archives Survey.

OMB Number: To be determined.

Agency Number: 3137.

Frequency: One-time survey.

Affected Public: Libraries, archives, museums, and other cultural heritage organizations.

Number of Respondents: To be determined.

Estimated Time per Respondent: To be determined.

Total Annualized Capital/Startup Costs: To be determined.

Total Costs: To be determined.

FOR FURTHER INFORMATION CONTACT: Chuck Thomas, Institute of Museum and Library Services, 1800 M Street NW., 9th Floor, Washington, DC 20036. Telephone: 202-653-4663. E-mail: cthomas@imls.gov or by or by teletype (TTY/TDD) for persons with hearing difficulty at 202-653-4614.

Dated: May 25, 2011.
Kim Miller,
Management Analyst.

[FR Doc. 2011-13417 Filed 5-27-11; 8:45 am]

BILLING CODE 7036-01-P